DEPARTMENT OF ENERGY

Federal Energy Regulatory Commission

[Docket Nos. CP01-434-000, CP01-435-000, and CP01-436-000]

Seneca Lake Storage, Inc.; Notice of Application

September 5, 2001.

Take notice that on August 27, 2001, Seneca Lake Storage, Inc. (SLSI), 81 State Street, Binghamton, New York, 13901, filed an application in the above-referenced docket numbers pursuant to Section 7(c) of the Natural Gas Act, as amended, and Parts 157 and 284 of the Commission's Rules and Regulations, for: (1) a certificate of public convenience and necessity, pursuant to Part 157, Subpart A, authorizing SLSI to construct and operate, at market based rates, a natural gas storage facility capable of delivering 50,000 dekatherms/day, consisting of storage caverns and other associated and appurtenant facilities; (2) a blanket certificate authorizing SLSI to construct, acquire and operate additional facilities under Part 157, Subpart F following construction of the facilities for which authorization is being sought under Part 157, Subpart A; (3) a blanket certificate authorizing SLSI to provide storage services on the behalf of others under Part 284, Subpart G; and (4) a blanket certificate pursuant to Part 284, Subpart J authorizing SLSI to provide unbundled sales service for the limited purpose of disposing of gas in storage that shippers fail to remove. The application is on file with the Commission and open to public inspection. This filing may be viewed on the web at http://www.ferc.gov using the “RIMS” link, select “Docket#” and follow the instructions (please call (202) 208-2222 for assistance).

SLSI further requests approval of its FERC Gas Tariff included in Exhibit P of the application. SLSI also requests that if its request for approval of market based rates is granted, the Commission (1) waive the requirements of section 284.8(d) of its regulations, which require that rates be designed using a straight fixed-variable rate design methodology; (2) waive the requirements of 157.14 of its regulations with respect to Exhibits K, L, N, and O of the application; (3) waive the accounting and reporting requirements under Parts 201 and 260.2 of its regulations; (4) waive the requirement to provide total gas supply information, pursuant to section 157.14(a)(10) of its regulations; and (5) waive all other regulations to the extent such waivers may be necessary to grant each of the authorizations requested in the application.

Further, SLSI requests the Commission grant confidential treatment to the Resource Report 6 and Exhibit M-1 that accompany the application, pursuant to 18 CFR 388.122, because these materials contain geological, technological, and financial information.

The storage facilities which SLSI seeks to construct and operate will be located in Schuyler County, New York. The storage facilities will consist of a gallery of two connected underground storage caverns (Gallery No. 2) and approximately 600 feet of 8.625 inch diameter interconnecting pipeline to connect the storage facilities to an existing compressor station owned by New York State Electric & Gas Corporation (NYSEG). The SLSI storage facilities will be integrated into the existing NYSEG control system. Daily operations and maintenance of the storage facilities will be performed by NYSEG under an Administrative Services Agreement. The gas stored in the SLSI facilities will be transported by existing interstate pipelines. With the exception of a limited amount of brine removal, Gallery No. 2 has been completely developed through a pre-existing salt mining operation, and has been previously used by others for propane storage. The proposed storage facilities have a maximum working gas volume of approximately 595.8 MMcf.

The storage services to be offered by SLSI will be available on a firm and interruptible basis, based upon the terms and conditions that are consistent with the requirements of Order No. 636. The proposed terms and conditions, as well as the rate schedules on which service will be offered, are included in the tariff attached to the application. SLSI requests that it be permitted to charge and collect market-based rates for the storage services.

Any questions regarding the application are to be directed to Mark A. Cole, Manager Gas Engineering & Project Management, New York State Electric & Gas Corporation, Corporate Drive, Kirkwood Industrial Park, Binghamton, New York 13902-5224, telephone (607) 762-4294, or fax to (607) 762-8045.

There are two ways to become involved in the Commission's review of this project. First, any person wishing to obtain legal status by becoming a party to the proceedings for this project should, on or before September 26, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-22717 Filed 9-10-01; 8:45 am]

BILLING CODE 6717-01-P